DEPARTMENT OF COMMERCE

Foreign-Trade Zones Board

[B-58-2015]

Foreign-Trade Zone (FTZ) 133—Quad-Cities, Iowa/Illinois; Notification of Proposed Production Activity; CNH Industrial America, LLC; Subzone 133E, (Agricultural and Construction Equipment, Subassemblies and Kits), Burlington and West Burlington, Iowa

CNH Industrial America, LLC (CNH), operator of Subzone 133E, submitted a notification of proposed production activity to the FTZ Board for its facilities located within Subzone 133E at sites in Burlington and West Burlington, Iowa. The notification conforming to the requirements of the regulations of the FTZ Board (15 CFR 400.22) was received on September 2, 2015.

The CNH facilities are used for the production and distribution of agricultural and construction equipment, subassemblies and kits. Pursuant to 15 CFR 400.14(b), FTZ activity would be limited to the specific foreign-status materials and components and specific finished products described in the submitted notification (as described below) and subsequently authorized by the FTZ Board.

Production under FTZ procedures could exempt CNH from customs duty payments on the foreign-status components used in export production. On its domestic sales, CNH would be able to choose the duty rates during customs entry procedures that apply to decal kits; toolbox kits; air conditioner kits; air conditioner service kits; forklifts; crawler dozers; tractor loaders; tractor loader backhoes; tractor loader backhoe assemblies and attachments (shafts, hook assemblies, buckets, shaft masts); cabs units; forklifts; cab service kits; valve service kits; engine hoods; loaders; bucket arms; boom and dipper assemblies; link assemblies; crawler dozer frames with tracks; axle assemblies; cab assemblies; draper, auger, and corn headers; bucket service kits; strippers for combine headers; wheel mount assemblies; combine header service kits; combine header arm assemblies, frames, and floors; locking tabs; reel tine flap kits; header dividers; hydraulic valve kits; valve part kits; beacon kits; relay voltage kits; electrical control kits; programmable controller kits; electrical service kits; and ignition wire service kits (duty rates range from duty-free to 5.8%) for the foreign-status inputs noted below. Customs duties also could possibly be deferred or reduced on foreign-status production equipment.

The components and materials sourced from abroad include: Articles of plastic (hoses; hose assemblies; shields; tubes without fittings; non-reinforced tubes, pipes and hoses with fittings; reinforced tubes, pipes and hoses with fittings; caution decals; insulators; fuel caps; steering wheel knobs; handles; spacers; tool boxes; joints; insulators; clamps; clips; retainers; strips; trim; seals; washers; and gaskets); articles of rubber (gaskets; insulation; pads; weather strips and sheets; weather strip profile shapes; insulation; non-reinforced elbows; tubes; and hoses without fittings; metal reinforced hose and hose assemblies without fittings; metal reinforced hoses; hose assemblies and tubes with fittings; textile reinforced rubber hoses; hose assemblies and sleeves without fittings; textile reinforced flexible hoses; air conditioner hoses; hose assemblies with fittings; reinforced (other materials) air hoses; flexible hoses; hydraulic hoses; alternator hoses and hose assemblies without fittings; reinforced (other materials) radiator hoses; pipes; flexible hoses with fittings; textile reinforced transmission belts; v-belts (60 to 180 cm outside circumference); textile reinforced transmission belts and v-belts (180 to 240 cm outside circumference); other transmission v-belts; textile reinforced belts; transmission belts; belt assemblies; belts; buffers; gaskets; seals; floor mats; liners; o-rings; packing; protection caps; glass stops; covers; shifter control lever boots; grommets; bellows; bushings; insulator blocks; mounts; pads; bands; stoppers and strips); coated paper gaskets and washers; training manuals; drawings; schematics; catalogs; rubber canvas radiator seals; anti-skid mats and strips; tempered safety glass for cabs of vehicles of chapter 87; mirrors and mirror assemblies; cold-rolled steel hollow tubes; stainless steel tubes; articles of iron or steel (tubes; couplings; connectors; fittings; elbows; stems; adapters; unions; o-rings; tees; cables; cable assemblies; ropes; wire ropes; roller chains; roller chain assemblies; chains; chain kits and assemblies; chain links and assemblies; screws; bolts; nuts; plugs; rods; retainers; rings; latches; washers; shims; pins; pin assemblies; rivets; springs; clamps; brackets; supports; racks; tool boxes; clips; and flanges); copper ground straps and cables; washers; and rivets; hex wrench sets; hammers; gathering chain tool assemblies; wrenches; latches; locks; catches; handles; lock assemblies; locks; lock keys; ignition keys; hinges; supports; iron/steel/aluminum/zinc/other base metal angles, dampers, brackets, gas struts, shock absorbers, springs, supports, plates, and mounts; plugs; radiator caps; covers; dust caps of base metal; decals; name plates; identity plates; emblems; engines; belt tensioners; hydraulic tubes; hydraulic cylinders; hydraulic motors and assemblies; fuel pumps; hydraulic fluid power pumps; hydraulic fluid power gear pumps; master cylinders; brake cylinders; pump modules and related parts (pump cores, covers, diaphragms, filters, gear sets, housings, impellers, repair kits, nozzles, pistons and plates); fans and fan assemblies; blowers and blower assemblies; turbochargers; compressors and compressor kits; heater cores; air conditioners; evaporator core assemblies; condensers; receiver-dryer assemblies; water filters; water screens; water strainers; oil filters; fuel filters; filter elements; hydraulic filters; filter receiver dryers; heaters; thermostats; filter cartridges; filter elements; filter strainers; air filters; air cleaners and assemblies; catalytic converters; cab filters; air dryer assemblies; receiver dryer assemblies; air cleaner manifolds and housing; oil and fuel filter elements; strainer assemblies; sprayer parts (tips, tubes, nozzles, tanks, supports, sprays, spindles, spacers, retainers, reservoirs for sprayers); jacks; lift cylinders; counterweights; mufflers; valve plates; buckets and bucket attachments; channels; wrist rest assemblies; bezels, brackets, bushings, dippers and arms for buckets; link blocks; frames; support brackets; elbows; cabs; shovel brackets; baffles; shovel discs; mounts; auger floor troughs; caps; door panels; tank ducts; fuel tanks; air intake tubes; header frames; cutterbars; conversion kits; accumulators; rotary brush attachments; wipers; straps; wiper blades and assemblies; hydraulic valves; center joints; swivel joints; joysticks; copper, iron or steel check valves; aspirator kits; breathers; plugs; poppets; copper/iron/steel shut-off valves, control valves, drain cocks and assemblies, quick couplings, valve fittings, and stop valves; copper/iron/steel connecting and coupling blocks, cylinder caps, cartridges, coils, control blocks, hydraulic manifolds, plugs, pistons, plug covers, control and hydraulic valves for non-hand operated valves; ball bearings; bearings and bearing assemblies; roller bearings; bearing cups; shims; spacers; tapered bearings; thrust washers; balls; collars; rings; races; transmission shafts; drive shafts and shaft assemblies; bearing housings; bearing carriers; bearing supports; torque converters; transmissions; drive assemblies; gear reduction units; reducers; final drive housings; swing reduction assemblies; gear pump drives; slewing rings; pulleys and pulley idlers; flywheels; adapters; bushings; clutches; couplings and coupling assemblies; universal joints; gears; gear shifter forks; sprockets; exhaust seals; engine gaskets and kits; seal kits; oil seals; seal repair kits; dust seals; taper fasteners; oil seals; lube nipples; actuators; electric motors; wiper motors; DC converters; printed circuit boards; magnets; magnetic rings; solenoids; coils; wet batteries; dry batteries; starter motors; alternators; visual signaling equipment; working lights; floodlights; alarms; horns; buzzers; welding orifices; wire feeders; cable units; encoder cables; welding torches; welding power sources; conductive metals; tip bodies; block heaters; heater assemblies; heating elements; fluid heaters; heaters; heater blocks; wireless network sensors; speakers; software on CD-Rom; video cameras; radars; true ground sensors; radios; radio parts; radio antennas; beacons; indicator lights; monitors; light kits; control levers; potentiometers; sensors; powertrain sensors; resistors; fuses; electrical timers; relays; switch assemblies; electrical shift lever buttons; electrical control units; handle assemblies; electrical connectors; wire harnesses; sockets; terminal cables; clamps; electrical connectors; lugs; terminal connectors; relay assemblies; electrical connectors; electrical control units; switch assemblies; modules; panel assemblies; electrical connectors; wire connectors; housing contacts; lamps; headlamps; bulbs; diodes; pressure, humidity and shaft speed sensors; transmitters; cables; ground cables; electrical wires; wire assemblies; wire harnesses; electrical cables; antenna cables; safety belts; buckles; trim panels and assemblies; air ducts; head and roof liners; mounts; brake pipes; gearbox covers; axles; axle bushings; wheel weights; shock absorbers; arms, housings and castings for shock absorbers; radiators; exhaust system pipes and tubes; ball joints; tie rods; steering columns and wheels; track rod assemblies; display mounts; trailer hitch hammer straps; drawbar hammer straps; coolant reservoirs; wiper tank fixing brackets; washers; temperature sensors; thermostatic switches; fuel sender units; pressure gauges; indicators; pressure switches; hourmeters; instrument clusters; tachometers; instrument panels; gauge clusters; cold start units; environmental control units; and seats (duty rates range from free to 9.9%).

Public comment is invited from interested parties. Submissions shall be addressed to the FTZ Board's Executive Secretary at the address below. The closing period for their receipt is October 20, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Diane Finver at Diane.Finver@trade.gov or (202) 482-1367.

Dated: September 3, 2015.
Andrew McGilvray,
Executive Secretary.

[FR Doc. 2015-22853 Filed 9-9-15; 8:45 am]

BILLING CODE 3510-DS-P